DEPARTMENT OF COMMERCE

International Trade Administration

[A-570-504]

Final Results of Antidumping Duty Administrative Review: Petroleum Wax Candles from the People's Republic of China

AGENCY: Import Administration, International Trade Administration, Department of Commerce.

EFFECTIVE DATE: September 13, 2007.

SUMMARY: On May 10, 2007, the Department of Commerce (“Department”) published its preliminary results in the antidumping duty administrative review of petroleum wax candles from the People's Republic of China (“PRC”). See Petroleum Wax Candles from the People's Republic of China: Preliminary Results and Partial Rescission of the Eighth Administrative Review, 72 FR 26595 (May 10, 2007) (“Preliminary Results”). We invited interested parties to comment on the Preliminary Results.

FOR FURTHER INFORMATION CONTACT: Irene Gorelik, Import Administration, International Trade Administration, U.S. Department of Commerce, 14th Street and Constitution Avenue, NW, Washington, DC 20230; telephone: (202) 482-6905.

SUPPLEMENTARY INFORMATION:

Case History

This administrative review covers one manufacturer/exporter of subject merchandise: Deseado International, Ltd. (“Deseado”). Petitioner is the National Candle Association (“NCA”). The Preliminary Results in this administrative review were published on May 10, 2007. On June 12, 2007, Petitioner and Deseado submitted comments. On June 18, 2007, Petitioner and Deseado submitted rebuttal comments. No interested parties requested a hearing.

Period of Review

The period of review (“POR”) covers August 1, 2005, through July 31, 2006.

Scope of the Order¹

¹ Final scope rulings on petroleum wax candles scope inquiries addressed by the Department can be found at: http://ia.ita.doc.gov/download/candles-prc-scope/index.html.

The products covered by Notice of Antidumping Duty Order: Petroleum Wax Candles from the People's Republic of China, 51 FR 30686 (August 28, 1986) (“Candles Order”) are certain scented or unscented petroleum wax candles made from petroleum wax and having fiber or paper-cored wicks. They are sold in the following shapes: tapers, spirals, and straight-sided dinner candles; round, columns, pillars, votives; and various wax-filled containers. The products were classified under the Tariff Schedules of the United States 755.25, Candles and Tapers. The products covered are currently classified under the Harmonized Tariff Schedule of the United States (“HTSUS”) item 3406.00.00. Although the HTSUS subheading is provided for convenience purposes, our written description remains dispositive. See Candles Order and Petroleum Wax Candles From the People's Republic of China: Notice of Final Results of Antidumping Duty New Shipper Review, 69 FR 77990 (December 29, 2004).

Additionally, on October 6, 2006, the Department published its final determination of circumvention of the antidumping duty order on petroleum wax candles from the PRC. See Later-Developed Merchandise Anticircumvention Inquiry of the Antidumping Duty Order on Petroleum Wax Candles from the People's Republic of China: Affirmative Final Determination of Circumvention of the Antidumping Duty Order, 71 FR 59075 (October 6, 2006). The Department determined that candles composed of petroleum wax and over 50 percent or more palm and/or other vegetable oil-based waxes (mixed-wax candles) are later-developed products of petroleum wax candles. In addition, the Department determined that mixed-wax candles containing any amount of petroleum are covered by the scope of the antidumping duty order on petroleum wax candles from the PRC.

Partial Rescission of Administrative Review

In the Preliminary Results, the Department issued a notice of intent to rescind the administrative review with respect to thirteen companies² because all thirteen companies submitted timely withdrawals of their requests for an administrative review. See Preliminary Results, 72 FR at 26596. The Department received no comments on this issue, and we did not receive any further information since the issuance of the Preliminary Results that provides a basis for a reconsideration of this determination. Therefore, consistent with 19 CFR 351.213(d), we are rescinding this administrative review with respect to the thirteen companies named below in footnote 2.

² Amstar Business Company Limited, Apex Enterprises International Ltd. and Apex's producer, Golden Industrial Co., Ltd., Fuzhou Eastown Arts Co., Ltd., Gift Creative Company, Ltd., Maverick Enterprise Co., Ltd. and Maverick's producer Great Founder International Co., Qingdao Kingking Applied Chemistry Co., Ltd., Shantou Jinyuan Mingfeng Handicraft Co., Shanghai Shen Hong Arts and Crafts Co., Ltd. and Shen Hong's producer Shanghai Changran Enterprise, Ltd ., Shenzhen Sam Lick Manufactory (and affiliated exporter Prudential (HK) Candles Manufacturing Co., Ltd)., and Transfar International Corp.

Analysis of Comments Received

All issues raised in the comments submitted by Petitioner and Deseado are addressed in the “Memorandum to the Assistant Secretary for Import Administration: Antidumping Duty Order on Petroleum Wax Candles from the People's Republic of China: Issues and Decision Memorandum for Final Results of the Eighth Administrative Review,” (“Issues & Decision Memorandum”), which is hereby adopted by this notice. A list of the issues raised, all of which are in the Issues and Decision Memorandum, is attached to this notice as Appendix I. Parties can find a complete discussion of all issues raised in the comments and the corresponding recommendations in this public memorandum, which is on file in the Central Records Unit, room B-099 of the Department of Commerce building. In addition, a complete version of the Issues and Decision Memorandum can be accessed directly on the Web at http://www.trade.gov/ia/. The paper copy and electronic version of the Issues and Decision Memorandum are identical in content.

Changes Since the Preliminary Results

There have been no changes since the Preliminary Results.

Separate Rates

In the Preliminary Results, we determined that a separate rate analysis was not necessary with respect to Deseado because it reported that it is owned wholly by an entity located and registered in a market economy (i.e., Hong Kong).³ Therefore, we assigned Deseado a separate rate. For the final results, we continue to find that the evidence placed on the record of this administrative review by Deseado demonstrates that a separate rate analysis is unnecessary to determine whether Deseado is under de jure or de facto control of the PRC government and we will continue to assign Deseado a separate rate. See Issues and Decision Memorandum at Comment 2.

³ See Brake Rotors From the People's Republic of China: Final Results and Partial Rescission of Fifth New Shipper Review, 66 FR 44331 (August 23, 2001), results unchanged from Brake Rotors From the People's Republic of China: Preliminary Results and Partial Rescission of Fifth New Shipper Review, 66 FR 29080-1 (May 29, 2001) (where the respondent was wholly owned by a U.S. registered company); Brake Rotors From the People's Republic of China: Final Results and Partial Rescission of Fourth New Shipper Review and Rescission of Third Antidumping Duty Administrative Review, 66 FR 27063 (May 16, 2001) (where the respondent was wholly owned by a company located in Hong Kong), results unchanged from Brake Rotors From the People's Republic of China: Preliminary Results and Partial Rescission of the Fourth New Shipper Review and Rescission of the Third Antidumping Duty Administrative Review, 66 FR 1303-6 (January 8, 2001); and Notice of Final Determination of Sales at Less Than Fair Value: Creatine Monohydrate From the People's Republic of China, 64 FR 71104-5 (December 20, 1999) (where the respondent was wholly owned by persons located in Hong Kong).

Adverse Facts Available

For the reasons discussed in the Issues and Decision Memorandum, and in accordance with sections 776(a)(2)(A), (B), and (C), and 776(b) of the Tariff Act of 1930, as amended (“Act”), for the final results, we continue to determine that the application of adverse facts available (“AFA”) is appropriate for Deseado because it failed to cooperate by not acting to the best of its ability to comply with the Department's multiple requests for sales and cost data and significantly impeded this proceeding. See Issues and Decision Memorandum at Comment 1. As AFA, we will continue to apply the rate of 108.30 percent, the highest calculated rate from any segment of this proceeding, as described in the Preliminary Results.

Final Results of Review

We determine that the following percentage weighted-average margins exist for the POR:

Manufacturer/Exporter | Margin (Percent)
Deseado International, Ltd. | 108.30 %

Assessment Rates

The Department will determine, and U.S. Customs and Border Protection (“CBP”) shall assess, antidumping duties on all appropriate entries. For these final results, Deseado received a dumping margin based upon total AFA. We will, therefore, instruct CBP to liquidate entries manufactured or exported by Deseado, according to the AFA rate listed above. The Department intends to issue assessment instructions to CBP 15 days after the date of publication of these final results of review.

Cash Deposit Requirements

The following deposit requirements will be effective upon publication of this notice of final results of administrative review for all shipments of petroleum wax candles from the PRC entered, or withdrawn from warehouse, for consumption on or after the date of publication, as provided by section 751(a)(1) of the Act: (1) the cash deposit rate for Deseado will be the rate indicated above; (2) for previously investigated companies not listed above, the cash deposit rate will continue to be the company-specific rate published for the most recent period; (3) for all other PRC exporters of subject merchandise which have not been found to be entitled to a separate rate, the cash-deposit rate will be the PRC-wide rate of 108.30 percent; and (4) for all non-PRC exporters of subject merchandise, the cash-deposit rate will be the rate applicable to the PRC supplier of that exporter. These cash deposit requirements shall remain in effect until further notice.

Notification to Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

This determination and notice are issued and published in accordance with sections 751(a) and 777(i)(1) of the Act.

Dated: September 7, 2007.
David M. Spooner,
Assistant Secretary for Import Administration.

Appendix I

Comment 1: Total Adverse Facts Available (“AFA”)

Comment 2:Separate Rate Status

Comment 3: Scope of the Antidumping Duty Order

Comment 4: Retroactive Application of the Anti-Circumvention Determination

[FR Doc. E7-18068 Filed 9-12-07; 8:45 am]

BILLING CODE 3510-DS-S